DEPARTMENT OF THE INTERIOR

Bureau of Reclamation

Environmental Impact Statement/Environmental Impact Report on the Proposed Amendment of the Water Service Contract Between the United States of America and the Sacramento Municipal Utility District, Sacramento, CA

AGENCY: Bureau of Reclamation, Interior.

ACTION: Notice of cancellation.

SUMMARY: The Bureau of Reclamation and the Sacramento Municipal Utility District (SMUD) are canceling plans to continue work on a joint environmental impact statement/environmental impact report (EIS/EIR) on a proposed amendment of the water service contract between the United States and SMUD. The reason for canceling is that the project will be addressed as part of the environmental review processes for both the Freeport Regional Water Project and the American River Division long-term contract renewal.

FOR FURTHER INFORMATION CONTACT: Mr. Rob Schroeder, Reclamation, at (916) 989-7274.

SUPPLEMENTARY INFORMATION: Reclamation and SMUD had proposed to amend the existing contract to change the point of diversion of 30,000 acre-feet annually of contract water for municipal and industrial uses for Sacramento County Water Agency.

Dated: October 24, 2003.
Frank Michny,
Regional Environmental Officer, Mid-Pacific Region.

[FR Doc. 03-27920 Filed 11-5-03; 8:45 am]

BILLING CODE 4310-MN-P